DEPARTMENT OF TRANSPORTATION

Federal Highway Administration

Environmental Assessment or Environmental Impact Statement: Warren County, KY

AGENCY: Federal Highway Administration, DOT.

ACTION: Notice of intent.

SUMMARY: The FWA is issuing this notice to advise the public that an Environmental Assessment (EA) or Environmental Impact Statement (EIS) will be prepared for the proposed construction of a highway on new alignment from I-65 west to US 31W in northern Warren County, Kentucky.

FOR FURTHER INFORMATION CONTACT: Robert Farley, Area Engineer, Federal Highway Administration, John C. Watts Federal Building and U.S. Courthouse, 330 W. Broadway, Frankfort, Kentucky 40601. Telephone 502-223-6744, Fax 502-223-6735.

SUPPLEMENTARY INFORMATION: The FHWA in cooperation with the Kentucky Transportation Cabinet (KYTC) will prepare an EA or EIS for the construction of a highway on new alignment from I-65 west to US 31W in the vicinity of the Kentucky TriModal Transpark (KTT). The EA or EIS will complement previous studies conducted by KYTC and the local Intermodal Transpark Authority (ITA) for the KTT development area and will detail environmental, social, and economic impacts associated with the proposed action.

Letters describing the proposed action and soliciting comments will be sent to appropriate Federal, State, and local agencies. A series of public meetings and a public hearing will be held while preparing this EA or EIS. Public notice will be given of the time and place of the meetings and hearing. The EA or draft EIS will be available for public and agency reviews and comment prior to the public hearing.

The public meetings and hearing will also be a forum for public consultation and involvement on issues associated with the National Historic Preservation Act (Section 106) when appropriate. Interested persons, groups, or parties who wish to be consulting parties under Section 106 for this project should submit a written request to the KYTC Bowling Green District Office, Attn: Kenneth Cox, Project Manager, 900 Morgantown Road, Bowling Green, Kentucky 42102. Telephone 270-746-7898, Fax 270-746-7643.

To ensure the full range of issues related to the proposed action is addressed and all significant issues identified, comments and suggestions are invited from all interested parties. Comments or questions concerning the proposed action and the EA or EIS may also be directed to the KYTC District Office or FHWA at the addresses provided above.

(Catalog of Federal Domestic Assistance Program Number 20.205, Highway Planning and Construction. The regulations implementing executive Order 12372 regarding intergovernmental consultation on Federal programs and activities apply to this program.)
Issued on: September 4, 2003.
Evan Wisniewski,
Project Development Team Leader, Federal Highway Administration.

[FR Doc. 03-22993 Filed 9-09-03; 8:45 am]

BILLING CODE 4910-22-M